DEPARTMENT OF TRANSPORTATION

National Highway Traffic Safety Administration

Petition To Modify an Exemption of a Previously Approved Antitheft Device; Porsche

AGENCY: National Highway Traffic Safety Administration, Department of Transportation (DOT).

ACTION: Grant of a petition to modify an exemption of a previously approved antitheft device.

SUMMARY: On April 20, 2009, the National Highway Traffic Safety Administration (NHTSA) granted in full Porsche Cars North America's (Porsche) petition for an exemption in accordance with § 543.9(c)(2) of 49 CFR part 543, Exemption from the Theft Prevention Standard for the Porsche Panamera vehicle line beginning with model year (MY 2010). On February 4, 2010, Porsche submitted a petition to modify its previously approved exemption for the Porsche Panamera vehicle line beginning with model year (MY) 2012. NHTSA is granting Porsche's petition to modify the exemption in full because it has determined that the modified device is also likely to be as effective in reducing and deterring motor vehicle theft as compliance with the parts-marking requirements of the Theft Prevention Standard.

DATES: The exemption granted by this notice is effective beginning with model year (MY) 2012.

FOR FURTHER INFORMATION CONTACT: Carlita Ballard, Office of International Policy, Fuel Economy and Consumer Standards, NHTSA, 1200 New Jersey Avenue, SE., Washington, DC 20590. Ms. Ballard's telephone number is (202) 366-0846. Her fax number is (202) 493-2990.

SUPPLEMENTARY INFORMATION: On April 20, 2009, NHTSA published in the Federal Register a notice granting in full a petition from Porsche for an exemption from the parts-marking requirements of the Theft Prevention Standard (49 CFR 541) for the Panamera vehicle line beginning with its MY 2010 vehicles. The Porsche Panamera is equipped with a passive antitheft device (see 74 FR 10837) and an audible and visible alarm.

On February 4, 2010, Porsche submitted a petition to modify the previously approved exemption for the Panamera vehicle line. This notice grants in full Porsche's petition to modify the exemption for the Panamera vehicle line. Porsche's submission is a complete petition, as required by 49 CFR 543.9(d), in that it meets the general requirements contained in 49 CFR 543.5 and the specific content requirements of 49 CFR 543.6. Porsche's petition provides a detailed description and diagram of the identity, design, and location of the components of the antitheft device proposed for installation beginning with the 2012 model year.

The MY 2010 passive antitheft device installed on the Porsche Panamera includes a microprocessor-based immobilizer system, electronic ignition switch, transponder key, remote control unit, alarm/central locking control unit, optional keyless entry system and electronic parking brake. Porsche stated that the central locking system works in conjunction with the audible and visible alarm. Locking the doors with the ignition key, the remote control or a door switch (with the keyless entry option) will activate the audible and visible alarm. An ultrasonic sensor in the alarm system will monitor the doors, rear luggage compartment, front deck lid, fuel filler door, and interior movement. The horn will sound and the lights will flash if there is any detection of unauthorized use. Porsche stated that its immobilizer prevents the engine management system and steering system from functioning when the system is engaged. The immobilizer is automatically activated when the key is removed from the ignition switch assembly, or the optional special keyless entry keycard exits the vehicle with the driver. The immobilizer then returns to its normal “off” state, where engine starting, operation, and steering are inhibited. Starting the engine and operation of the vehicle will be allowed only when the correct code is sent to the control unit by using the correct key in the ignition switch, or by having the correct keyless entry keycard within the occupant compartment of the car. The ignition key contains a radio signal transponder which signals the control unit to allow steering and the engine to start. With the keyless entry system, operation of the vehicle is allowed when the ignition key is substituted with the special keycard that contains a radio signal transmitter similar to the transponder in the standard ignition key.

Porsche also stated that the Panamera line is equipped with an electronic steering column lock and an electronically activated parking brake which is integrated into the vehicle's antitheft device. If the control unit does not receive the correct code from the ignition key or keycard, the parking brake will remain activated and the vehicle cannot be towed.

In its 2012 modification, Porsche stated that it proposes to delete the electronic steering column lock equipped on the exempted vehicle line because the steering column lock is considered redundant by the electronic parking brake that is standard equipment on the line. Porsche proposes to delete the electronic steering lock feature beginning with its MY 2012 vehicles. Porsche stated that its 2012 modified antitheft system will now consist of a microprocessor based immobilizer system which prevents functioning of the engine management system, an activated parking brake system, central locking and an alarm system.

Porsche also stated that with its 2012 modification, the normal state of the applicable control unit is to not allow engine starting or release of the activated parking brake. Only by insertion of the correct key into the ignition switch, or by having the special keyless entry keyfob/device with the occupant compartment of the car is the correct signal sent to the applicable control units, allowing the engine to start and activation of the parking brake to be released. Porsche stated that when the key is removed from the ignition, or the ignition switch/control unit is turned to the ignition lock position and the keyfob exits the vehicle with the driver, the device will return to its normal “off” state, preventing the engine from starting and the parking brake from being released.

Porsche stated that it believes that the planned deletion of the electronic steering column lock from its comprehensive device for the Panamera vehicle line will continue to be as effective as parts-marking and should continue to qualify for an exemption from parts-marking. Since the same aspects of performance (i.e., arming of the device and the immobilization feature) are still provided, the agency believes that the same level of protection is being met. The agency agrees that the deletion of the electronic steering column lock feature should have no effect on functionality of the device's ability to deter theft. Since the agency granted Porsche's exemption for its MY 2010 Panamera vehicle line, there has been no available theft rate data published by the agency for the vehicle line.

The agency has evaluated Porsche's MY 2012 petition to modify the exemption for the Panamera vehicle line from the parts-marking requirements of 49 CFR part 541, and has decided to grant it. The agency believes that the proposed device will continue to provide the five types of performance listed in § 543.6(a)(3): Promoting activation; attracting attention to the efforts of unauthorized persons to enter or operate a vehicle by means other than a key; preventing defeat or circumvention of the device by unauthorized persons; preventing operation of the vehicle by unauthorized entrants; and ensuring the reliability and durability of the device.

If Porsche decides not to use the exemption for this line, it should formally notify the agency. If such a decision is made, the line must be fully marked according to the requirements under 49 CFR 541.5 and 541.6 (marking of major component parts and replacement parts).

NHTSA suggests that if the manufacturer contemplates making any changes, the effects of which might be characterized as de minimis, it should consult the agency before preparing and submitting a petition to modify.

Authority: 49 U.S.C. 33106; delegation of authority at 49 CFR 1.50.

Issued on: April 22, 2010.
Stephen R. Kratzke,
Associate Administrator for Rulemaking.

[FR Doc. 2010-9704 Filed 4-26-10; 8:45 am]

BILLING CODE 4910-59-P